DEPARTMENT OF COMMERCE

International Trade Administration

[A-552-802]

Notice of Final Results of Antidumping Duty Changed-Circumstances Review: Frozen Warmwater Shrimp from Vietnam

AGENCY: Import Administration, International Trade Administration, Department of Commerce.

SUMMARY: On June 30, 2010, the Department of Commerce (“the Department”) published a notice of initiation and the preliminary results of its changed-circumstances review of the antidumping duty order on frozen warmwater shrimp from the Socialist Republic of Vietnam (“Vietnam”) in which it preliminarily determined that Phuong Nam Foodstuff Corp. is the successor-in-interest to Phuong Nam Co., Ltd., and that as such, Phuong Nam Foodstuff Corp is the successor-in-interest to Phuong Nam Co., Ltd. with respect to entries of subject merchandise. We gave interested parties the opportunity to comment on our preliminary results. We received no comments. Therefore, for these final results, the Department is adopting its preliminary determination that Phuong Nam Foodstuff Corp. is the successor-in-interest to Phuong Nam Co., Ltd.

EFFECTIVE DATE: August 16, 2010.

FOR FURTHER INFORMATION CONTACT: Scot Fullerton at (202) 482-1386 or Steven Hampton at (202) 482-0116, AD/CVD Operations, Office 9, Import Administration, International Trade Administration, U.S. Department of Commerce, 14th Street and Constitution Avenue, NW, Washington, DC 20230.

SUPPLEMENTARY INFORMATION:

Background

The Department published the antidumping duty order on frozen warmwater shrimp from Vietnam on February 1, 2005. See Notice of Amended Final Determination of Sales at Less Than Fair Value and Antidumping Duty Order: Certain Frozen Warmwater Shrimp From the Socialist Republic of Vietnam, 70 FR 5152 (February 1, 2005) (“VN Shrimp Order”). Phuong Nam Co., Ltd., and Phuong Nam Foodstuff Corp. (collectively “Phuong Nam”) participated in the third and fourth administrative reviews of the VN Shrimp Order and requested an administrative review, and subsequent revocation, for the fifth administrative review.

On May 14, 2010, Phuong Nam informed the Department that Phuong Nam Co., Ltd., had changed its name to Phuong Nam Foodstuff Corp. and petitioned the Department to conduct a changed-circumstances review to confirm that Phuong Nam Foodstuff Corp. is the successor-in-interest to Phuong Nam Co., Ltd., for purposes of determining antidumping duties as a result of the VN Shrimp Order.¹

¹ Phuong Nam claims that this name change was required to achieve the company's goal of listing the company on the Ho Chi Minh City Stock Exchange.

Upon review of the information submitted by Phuong Nam, the Department determined that an expedited review was practicable and, on June 30, 2010, issued a combined notice of initiation and preliminary results. See Frozen Warmwater Shrimp From Vietnam: Initiation and Preliminary Results of Changed-Circumstances Review, 75 FR 37757 (June 30, 2010) (“Preliminary Results”). In its Preliminary Results, the Department provided all interested parties with an opportunity to comment or request a public hearing regarding the Department's finding that Phuong Nam Foodstuff Corp. is the successor-in-interest to Phuong Nam Co., Ltd. We did not receive any comments or any requests for a public hearing.

Scope of the Order

The scope of this order includes certain frozen warmwater shrimp and prawns, whether wild-caught (ocean harvested) or farm-raised (produced by aquaculture), head-on or head-off, shell-on or peeled, tail-on or tail-off,² deveined or not deveined, cooked or raw, or otherwise processed in frozen form.

² “Tails” in this context means the tail fan, which includes the telson and the uropods.

The frozen warmwater shrimp and prawn products included in the scope of this order, regardless of definitions in the Harmonized Tariff Schedule of the United States (“HTSUS”), are products which are processed from warmwater shrimp and prawns through freezing and which are sold in any count size.

The products described above may be processed from any species of warmwater shrimp and prawns. Warmwater shrimp and prawns are generally classified in, but are not limited to, the Penaeidae family. Some examples of the farmed and wild-caught warmwater species include, but are not limited to, whiteleg shrimp (Penaeus vannemei), banana prawn (Penaeus merguiensis), fleshy prawn (Penaeus chinensis), giant river prawn (Macrobrachium rosenbergii), giant tiger prawn (Penaeus monodon), redspotted shrimp (Penaeus brasiliensis), southern brown shrimp (Penaeus subtilis), southern pink shrimp (Penaeus notialis), southern rough shrimp (Trachypenaeus curvirostris), southern white shrimp (Penaeus schmitti), blue shrimp (Penaeus stylirostris), western white shrimp (Penaeus occidentalis), and Indian white prawn (Penaeus indicus).

Frozen shrimp and prawns that are packed with marinade, spices, or sauce are included in the scope of this order. In addition, food preparations, which are not “prepared meals,” that contain more than 20 percent by weight of shrimp or prawn are also included in the scope of this order.

Excluded from the scope are: 1) breaded shrimp and prawns (HTUS subheading 1605.20.10.20); 2) shrimp and prawns generally classified in the Pandalidae family and commonly referred to as coldwater shrimp, in any state of processing; 3) fresh shrimp and prawns whether shell-on or peeled (HTUS subheadings 0306.23.00.20 and 0306.23.00.40); 4) shrimp and prawns in prepared meals (HTUS subheading 1605.20.05.10); 5) dried shrimp and prawns; 6) canned warmwater shrimp and prawns (HTUS subheading 1605.20.10.40); 7) certain dusted shrimp; and 8) certain battered shrimp. Dusted shrimp is a shrimp-based product: 1) that is produced from fresh (or thawed-from-frozen) and peeled shrimp; 2) to which a “dusting” layer of rice or wheat flour of at least 95 percent purity has been applied; 3) with the entire surface of the shrimp flesh thoroughly and evenly coated with the flour; 4) with the non-shrimp content of the end product constituting between four and 10 percent of the product's total weight after being dusted, but prior to being frozen; and 5) that is subjected to individual quick freezing (“IQF”) immediately after application of the dusting layer. Battered shrimp is a shrimp-based product that, when dusted in accordance with the definition of dusting above, is coated with a wet viscous layer containing egg and/or milk, and pan-fried.

The products covered by this order are currently classified under the following HTSUS subheadings: 0306.13.00.03, 0306.13.00.06, 0306.13.00.09, 0306.13.00.12, 0306.13.00.15, 0306.13.00.18, 0306.13.00.21, 0306.13.00.24, 0306.13.00.27, 0306.13.00.40, 1605.20.10.10, and 1605.20.10.30. These HTSUS subheadings are provided for convenience and for customs purposes only and are not dispositive, but rather the written description of the scope of this order is dispositive.

Final Results of Changed-Circumstances Review

For the reasons stated in the Preliminary Results and because we received no comments to the contrary, the Department continues to find that Phuong Nam Foodstuff Corp. is the successor-in-interest to Phuong Nam Co., Ltd. Consequently, the Department will instruct U.S. Customs and Border Protection (“CBP”) to apply the cash-deposit rate in effect for Phuong Nam Co., Ltd., to all entries of the subject merchandise from Phuong Nam Foodstuff Corp. that were entered, or withdrawn from warehouse, for consumption on or after the date of publication of the final results of this changed-circumstances review. See Granular Polytetrafluoroethylene Resin from Italy: Final Results of Antidumping Duty Changed Circumstances Review, 68 FR 25327 (May 12, 2003).

This determination and this notice are in accordance with sections 751(b)(1) and 777(i)(1) of the Tariff Act of 1930, as amended, and 19 CFR 351.216.

Dated: August 9, 2010.
Ronald K. Lorentzen,
Deputy Assistant Sectary for Import Administration.

[FR Doc. 2010-20245 Filed 8-13-10; 8:45 am]

BILLING CODE 3510-DS-S